AGENCY FOR INTERNATIONAL DEVELOPMENT

Bureau for Democracy, Conflict and Humanitarian Assistance; Office of Food for Peace; Announcement of Food for Peace Public Law 480 Title II Program Policies and Proposal Guidelines Fiscal Year 2008; Notice

Pursuant to the Agricultural Trade Development and Assistance Act of 1954 (Pub. L. 480, as amended), notice is hereby given that the final Food for Peace Public Law 480 Title II Program Policies and Proposal Guidelines Fiscal Year 2008 are available to interested parties for general viewing.

Individuals who wish to access the current guidelines should visit the Food for Peace Web site at http://www.usaid.gov/our_work/humanitarian_assistance/ffp/, or contact the Office of Food for Peace, U.S. Agency for International Development, RRB 7.06-102, 1300 Pennsylvania Avenue, NW., Washington, DC 20523-7600.

Juli Majernik,
Grants Manager, Policy and Technical Division, Office of Food for Peace, Bureau for Democracy, Conflict and Humanitarian Assistance.

[FR Doc. E7-20808 Filed 10-22-07; 8:45 am]

BILLING CODE 6116-01-P